SECURITIES AND EXCHANGE COMMISSION

[SEC File No. 270-336, OMB Control No. 3235-0379]

Submission for OMB Review; Comment Request

Upon Written Request Copies Available From: Securities and Exchange Commission, Office of FOIA Services, 100 F Street NE, Washington, DC 20549-2736

Extension:

Form F-X

Notice is hereby given that, pursuant to the Paperwork Reduction Act of 1995 (44 U.S.C. 3501 et seq.), the Securities and Exchange Commission (“Commission”) has submitted to the Office of Management and Budget this request for extension of the previously approved collection of information discussed below.

Form F-X (17 CFR 239.42) is used to appoint an agent for service of process by Canadian issuers registering securities on Forms F-7, F-8, F-9 or F-10 under the Securities Act of 1933 (15 U.S.C. 77a et seq.), or filing periodic reports on Form 40-F under the Exchange Act of 1934 (15 U.S.C. 78a et seq.). The information collected must be filed with the Commission and is publicly available. We estimate it takes approximately 2 hours per response to prepare Form F-X and the information is filed by approximately 114 respondents for a total annual reporting burden of 228 hours (2 hours per response × 114 responses).

An agency may not conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice to (i) www.reginfo.gov/public/do/PRAMain and (ii) David Bottom, Director/Chief Information Officer, Securities and Exchange Commission, c/o Cynthia Roscoe, 100 F Street NE, Washington, DC 20549, or by sending an email to: PRA_Mailbox@sec.gov.

Dated: October 19, 2021.
J. Matthew DeLesDernier,
Assistant Secretary.

[FR Doc. 2021-23151 Filed 10-22-21; 8:45 am]

BILLING CODE 8011-01-P